DEPARTMENT OF HEALTH AND HUMAN SERVICES

Centers for Disease Control and Prevention

[CDC-2018-0060, Docket Number NIOSH-316]

Technical Report: Current Intelligence Bulletin: NIOSH Practices in Occupational Risk Assessment

AGENCY: National Institute for Occupational Safety and Health (NIOSH), Centers for Disease Control and Prevention (CDC), Department of Health and Human Services (HHS).

ACTION: Notice of availability.

SUMMARY: NIOSH announces the availability of Current Intelligence Bulletin: NIOSH Practices in Occupational Risk Assessment.

DATES: The final document was published on February 28, 2020 on the CDC website.

ADDRESSES: The document may be obtained at the following link: https://www.cdc.gov/niosh/docs/2020-106/default.html.

FOR FURTHER INFORMATION CONTACT: Robert D. Daniels (mailto: RDaniels@cdc.gov), National Institute for Occupational Safety and Health, Centers for Disease Control and Prevention, 1090 Tusculum Ave., MS C-15, Cincinnati, OH 45226, phone (513) 533-8329 (not a toll-free number).

SUPPLEMENTARY INFORMATION: On July 26, 2018, NIOSH published a request for comment in the Federal Register [83 FR 35486] on the draft version of the document Draft Current Intelligence Bulletin: NIOSH Practices in Occupational Risk Assessment. NIOSH received comments from four respondents including professional organizations and the public. All comments received were carefully reviewed and addressed, where appropriate. In general, revisions in response to comments focused on clarifying the approach used by NIOSH in its risk assessments supporting recommended exposure limits and how this approach differs from environmental risk assessments. NIOSH Responses to Peer Review and Public Comments documents can be found in the Supporting Documents section on www.regulations.gov for this docket.

Dated: February 28, 2020.
Frank J. Hearl,
Chief of Staff, National Institute for Occupational Safety and Health, Centers for Disease Control and Prevention.

[FR Doc. 2020-04436 Filed 3-3-20; 8:45 am]

BILLING CODE 4163-18-P